DEPARTMENT OF JUSTICE

Notice of Lodging of Proposed Consent Decree Under Clean Air Act

On September 19, 2022, the Department of Justice lodged a proposed consent decree with the United States District Court for the District of Puerto Rico in the lawsuit entitled United States v. TotalEnergies Marketing Puerto Rico Corporation, Civil Action No. 3:22-cv-1454.

In that action, the United States sought, pursuant to the Clean Air Act, 42 U.S.C. 7401, et seq., injunctive relief and recovery of a civil penalty regarding TotalEnergies' petroleum storage and distribution facility in Guaynabo, PR (“Facility”). TotalEnergies operated some of the Facility's storage tanks in a manner that created a risk of fire, and operated its truck loading rack in a manner that allowed excess petroleum vapors to escape to the atmosphere. The proposed Consent Decree requires TotalEnergies to upgrade its tanks and loading rack and implement maintenance measures to ensure that the Facility is in compliance with the Clean Air Act and its implementing regulations. The proposed Consent Decree also requires TotalEnergies to pay a $500,000 civil penalty.

The publication of this notice opens a period for public comment on the proposed Consent Decree. Comments should be addressed to the Assistant Attorney General, Environment and Natural Resources Division, and should refer to United States v. TotalEnergies Marketing Puerto Rico Corporation, Civil Action No. 3:22-cv-1454, D.J. Ref. No. 90-5-1-1-10983/1. All comments must be submitted no later than 30 days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the proposed amended consent decree may be examined and downloaded at this Justice Department website: https://www.justice.gov/enrd/consent-decrees. We will provide a paper copy of the proposed amended consent decree upon written request and payment of reproduction costs. Please mail your request and payment to: Consent Decree Library, U.S. DOJ—ENRD, P.O. Box 7611, Washington, DC 20044-7611.

Please enclose a check or money order for $10.00 (25 cents per page reproduction cost) payable to the United States Treasury.

Henry Friedman,
Assistant Section Chief, Environmental Enforcement Section, Environment and Natural Resources Division.

[FR Doc. 2022-20532 Filed 9-21-22; 8:45 am]

BILLING CODE 4410-15-P